DEPARTMENT OF THE INTERIOR

National Park Service

Native American Graves Protection and Repatriation Review Committee: Meeting

AGENCY: National Park Service.

ACTION: Notice.

Notice is hereby given in accordance with the Federal Advisory Committee Act (FACA), 5 U.S.C. Appendix (1988), that a meeting of the Native American Graves Protection and Repatriation Review Committee will be held on April 2, 3, and 4, 2000, in Juneau, Alaska.

The committee will meet at the Centennial Hall Convention Center; telephone: 907/586-5283, fax: 907/586-1135, located at 101 Egan Drive, Juneau, Alaska. Meetings will begin at 8:30 a.m. and will end no later than 5:00 p.m. each day.

The Native American Graves Protection and Repatriation Review Committee was established by Public Law 101-601 to monitor, review, and assist in implementation of the inventory and identification process and repatriation activities required under the Native American Graves Protection and Repatriation Act.

The agenda for this meeting will include: recommendations for disposition of culturally unidentifiable human remains, 1999 Report to Congress, discussion of Federal agency compliance, and implementation of the statute in Alaska.

The meeting will be open to the public. However, facilities and space for accommodating members of the public are limited. Persons will be accommodated on a first-come, first-served basis. Persons wishing to make a presentation to the committee should submit a request to do so by March 3, 2000. Please submit a written abstract of your presentation and your contact information. Any member of the public may also file a written statement for consideration by the committee by March 13, 2000. Both written requests and statements should be addressed to the committee in care of the Assistant Director, Cultural Resources Stewardship and Partnerships.

A block of lodging rooms has been set aside at the Westmark Baranof (800/764-0017) and the Goldbelt Hotel (888/478-6909) at a significantly reduced rate. Reservations must be booked with these hotels by March 4, 2000, to guarantee the reduced rate. Please reference the National Park Service and mention that you are attending the NAGPRA Review Committee Meeting.

Persons wishing further information concerning this meeting, or who wish to submit written statements may contact Mr. John Robbins, Assistant Director, Cultural Resources Stewardship and Partnerships, 1849 C St. NW—350 NC, Washington, DC 20240; telephone: 202/343-3387; fax: 202/343-5260. Transcripts of the meeting will be available for public inspection approximately eight weeks after the meeting at the office of the Assistant Director, Cultural Resources Stewardship and Partnerships, 800 North Capitol St., NW, Suite 350, Washington, DC 20013.

Dated: February 2, 2000,
John Robbins,
Assistant Director, Cultural Resources Stewardship and Partnerships.

[FR Doc. 00-3051 Filed 2-9-00; 8:45 am]

BILLING CODE 4310-70-F